DEPARTMENT OF DEFENSE

Office of the Secretary

Reserve Forces Policy Board; Notice of Federal Advisory Committee Meeting

AGENCY: Under Secretary of Defense for Personnel and Readiness, Reserve Forces Policy Board, Department of Defense.

ACTION: Notice of federal advisory committee meeting.

SUMMARY: The Department of Defense (DoD) is publishing this notice to announce that the following Federal Advisory Committee meeting of the Reserve Forces Policy Board (RFPB) will take place.

DATES: The RFPB will hold a meeting on Wednesday, March 6, 2019 from 8:55 a.m. to 3:25 p.m. The portion of the meeting from 8:55 a.m. to 2:30 p.m. will be closed to the public. The portion of the meeting from 2:40 p.m. to 3:25 p.m. will be open to the public.

ADDRESSES: The RFPB meeting address is the Pentagon, Room 3E863, Arlington, VA.

FOR FURTHER INFORMATION CONTACT: Alexander Sabol, (703) 681-0577 (Voice), 703-681-0002 (Facsimile), Alexander.J.Sabol.Civ@Mail.Mil (Email). Mailing address is Reserve Forces Policy Board, 5113 Leesburg Pike, Suite 601, Falls Church, VA 22041. Website: http://rfpb.defense.gov/. The most up-to-date changes to the meeting agenda can be found on the website and the Federal Register.

SUPPLEMENTARY INFORMATION: This meeting is being held under the provisions of the Federal Advisory Committee Act (FACA) (5 U.S.C., Appendix), the Government in the Sunshine Act (5 U.S.C. 552b), and 41 CFR 102-3.140 and 102-3.150.

Purpose of the Meeting: The purpose of the meeting is to obtain, review, and evaluate information related to strategies, policies, and practices designed to improve and enhance the capabilities, efficiency, and effectiveness of the Reserve Components.

Agenda: The RFPB will hold a meeting from 8:55 a.m. to 3:25 p.m. The portion of the meeting from 8:55 a.m. to 2:30 p.m. will be closed to the public and will consist of remarks to the RFPB from following invited speakers: The Under Secretary of the Navy will discuss the Navy's posture and challenges facing our Nation and priorities for adapting the Naval force and the Navy Reserve's potential use; the Director of Joint Intelligence, National Guard Bureau will discuss the role of the Reserve Components in the Space Force, the Department of Defense's proposed legislative language of the Space Force addressing the warfare domain definition, required skill sets, and the integration of Reserve Components into the Space Force; the Principal Deputy Assistant Secretary of Defense for Readiness will discuss Reserve Component Equipping and Transparency, Active and Reserve Components' readiness initiatives, their equipment parity, and the Department's approach to budgeting Reserve equipment in the Defense Budget; the Deputy Director, Defense Health Agency will brief the Defense Health Agency Military Health System transformation, its policies and practices in providing worldwide military medical, dental, and pharmacy services including the TRICARE Health Plan, and the challenges in supporting the Reserve Components; and the Assistant Secretary of Defense for Manpower and Reserve Affairs, Performing the Duties of the Under Secretary of Defense for Personnel and Readiness will discuss the Under Secretary of Defense for Personnel and Readiness' goals and updates on Reserve Component personnel system reforms under consideration and review of the Assistant Secretary of Defense for Reserve Affairs reorganization issues. The portion of the meeting from 2:40 p.m. to 3:25 p.m. will be open to the public and will consist of briefings from the following: The Subcommittee on Ensuring a Ready, Capable, Available and Sustainable Operational Reserve will brief the Reserve Component Cost Analysis findings and recommendations on the initial review of Active Component and Reserve Component cost, force mix, and future strategies for Reserve Component use given the national security challenges in a constrained fiscal environment.

Meeting Accessibility: Pursuant to section 10(a)(1) of the FACA and 41 CFR 102-3.140 through 102-3.165, and subject to the availability of space, the meeting is open to the public from 2:40 p.m. to 3:25 p.m. Seating is on a first-come, first-served basis. All members of the public who wish to attend the public meeting must contact Mr. Alex Sabol, the Designated Federal Officer, not later than 12:00 p.m. on Tuesday, March 5, 2019, as listed in the FOR FURTHER INFORMATION CONTACT section to make arrangements for a Pentagon escort, if necessary. Public attendees requiring escort should arrive at the Pentagon Metro Entrance at 2:00 p.m. to provide sufficient time to complete security screening to attend the beginning of the Open Meeting at 2:40 p.m. on March 6th. To complete the security screening, please be prepared to present two forms of identification. One must be a picture identification card. In accordance with section 10(d) of the FACA, 5 U.S.C. 552b(c), and 41 CFR 102-3.155, the DoD has determined that the portion of this meeting scheduled to occur from 8:55 a.m. to 2:30 p.m. will be closed to the public. Specifically, the Under Secretary of Defense (Personnel and Readiness), in coordination with the Department of Defense FACA Attorney, has determined in writing that this portion of the meeting will be closed to the public because it is likely to disclose classified matters covered by 5 U.S.C. 552b(c)(1).

Written Statements: Pursuant to section 10(a)(3) of the FACA and 41 CFR 102-3.105(j) and 102-3.140, interested persons may submit written statements to the RFPB about its approved agenda or at any time on the RFPB's mission. Written statements should be submitted to the RFPB's Designated Federal Officer at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the RFPB members before the meeting that is the subject of this notice. Please note that since the RFPB operates under the provisions of the FACA, all submitted comments and public presentations will be treated as public documents and will be made available for public inspection, including, but not limited to, being posted on the RFPB's website.

Dated: February 12, 2019.
Shelly E. Finke,
Alternate OSD Federal Register Liaison Officer, Department of Defense.

[FR Doc. 2019-02538 Filed 2-14-19; 8:45 am]

BILLING CODE 5001-06-P